DEPARTMENT OF COMMERCE

International Trade Administration

Notice of Determination To Partially Close Two Meetings of the Civil Nuclear Trade Advisory Committee

AGENCY: ITA, DOC.

ACTION: Notice of determination to partially close two meetings of the Civil Nuclear Trade Advisory Committee (CINTAC).

SUMMARY: This notice of determination announces the partial closure of the June 9, 2016 and August 4, 2016 meetings of the CINTAC.

DATES: The meetings are scheduled for Thursday, June 9, 2016, 9:00 a.m. to 4:00 p.m. Eastern Daylight Time (EDT) and Thursday August 4, 2016, 9:00 a.m. to 4:00 p.m. EDT. The public sessions of the meetings are from 3:00 p.m. to 4:00p.m.

ADDRESSES: The meetings will be held in Room 1412, U.S. Department of Commerce, Herbert Clark Hoover Building, 1401 Constitution Ave. NW., Washington, DC 20230.

FOR FURTHER INFORMATION CONTACT: Mr. Jonathan Chesebro, Office of Energy & Environmental Industries, ITA, Room 4053, 1401 Constitution Ave. NW., Washington, DC 20230. (Phone: 202-482-1297; Fax: 202-482-5665; email: jonathan.chesebro@trade.gov).

SUPPLEMENTARY INFORMATION:

Notice of Determination

In response to requests from representatives of a substantial segment of the U.S. civil nuclear industry and the U.S. Departments of State and Energy, the Secretary of Commerce, under discretionary authority, established the Civil Nuclear Trade Advisory Committee (the committee) in 2008, pursuant to provisions under the Federal Advisory Committee Act (FACA), as amended, 5 U.S.C. App. 2. The committee was most recently re-chartered in August 2014 and the current charter is set to expire in August 2016. It advises the Secretary of Commerce on the development and administration of programs and policies to expand United States exports of civil nuclear goods and services in accordance with applicable U.S. laws and regulations, for use by the Department of Commerce in its role as a member of the Civil Nuclear Trade Working Group of the Trade Promotion Coordinating Committee and the Department's active participation in the Atoms for Prosperity interagency group to promote U.S. civil nuclear trade.

In connection with that function, the committee provides advice on: (1) Matters concerning trade policy development and negotiations relating to U.S. civil nuclear exports; (2) the effect of U.S. Government policies, regulations, and programs, and the policies and practices of foreign governments on the export of U.S. civil nuclear goods and services; (3) the competitiveness of U.S. industry and its ability to compete for civil nuclear products and services opportunities in international markets, including specific problems in exporting, and U.S. Government and public/private actions to assist civil nuclear companies in expanding their exports; (4) the identification of priority civil nuclear markets with the potential for high immediate returns for U.S. exports, as well as emerging markets with a longer-term potential for U.S. exports; (5) strategies to increase private sector awareness and effective use of U.S. Government export promotion programs, and how U.S. Government programs may be more efficiently designed and coordinated; (6) the development of complementary industry and trade association export promotion programs, including ways for greater and more effective coordination of U.S. Government efforts with private sector organizations' civil nuclear export promotion efforts; and (7) the development of U.S. Government programs to encourage producers of civil nuclear products and services to enter new foreign markets, in connection with which the committee may advise on how to gather, disseminate, and promote awareness of information on civil nuclear exports and related trade issues.

Committee members represent U.S. industry and related U.S. civil nuclear trade organizations.

Committee activities are conducted consistent with the provisions of the FACA and its implementing regulations, 41 CFR subpart 102-3. FACA section 10(d) provides that an advisory committee meeting, or portions thereof, may be closed if the head of the agency to which the advisory committee reports determines such meeting may be closed to the public in accordance with subsection (c) of the Government in the Sunshine Act (5 U.S.C. 552b(c)).

The closed portions of the meetings will involve committee discussions of proposed U.S. Government strategies and policies regarding: (1) Nuclear cooperation agreements; (2) implementation of the Convention on Supplementary Compensation for Nuclear Damage; (3) proposed bilateral commercial nuclear working groups; and (4) identification of specific trade barriers impacting the U.S. civil nuclear industry.

Subsection (c)(9)(B) of the Government in the Sunshine Act permits closure of a meeting or portion of a meeting if the meeting is likely to disclose information the premature disclosure of which would be likely to significantly frustrate implementation of a proposed agency action. 5 U.S.C. 552b(c)(9)(B). Premature disclosure of matters one through three listed in the preceding paragraph would be likely to significantly impair the implementation of proposed agency policies and actions.

Subsection (c)(4) of the Government in the Sunshine Act permits closure of a meeting or portion of a meeting if trade secrets and commercial or financial information obtained from a person and privileged or confidential will be disclosed at the meeting. 5 U.S.C. 552b(c)(4). As noted above in matter four, the committee will discuss foreign trade barriers facing the U.S. civil nuclear industry, with the aim of developing proposals for how the U.S. Government can develop strategies to strengthen the industry's competitiveness as it competes abroad. This portion of the meeting will include the disclosure of committee members' trade secrets and privileged or confidential commercial or financial information as the members discuss the specific trade barriers their companies and subsectors have encountered.

Accordingly, the Chief Financial Officer and Assistant Secretary for Administration at the U.S. Department of Commerce has determined, pursuant to Section 10(d) of the FACA (5 U.S.C. App. 2 section 10(d)), that the portions of the June 9 and August 4, 2016 meetings described above shall be exempt from the provisions relating to public meetings found in 5 U.S.C. App. 2 sections 10(a)(1) and 10(a)(3). This determination shall be effective from the date of its signing on May 13, 2016.

Man Cho,
Director, Acting, Office of Energy and Environmental Industries.

[FR Doc. 2016-12268 Filed 5-23-16; 8:45 am]

BILLING CODE 3510-DR-P